DEPARTMENT OF COMMERCE

National Institute of Standards and Technology

15 CFR Part 231

CHIPS for America Incentives Program Webinar on Notice of Proposed Rulemaking for National Security Guardrails

AGENCY: CHIPS Program Office, National Institute of Standards and Technology (NIST), U.S. Department of Commerce.

ACTION: Notice of public webinar.

SUMMARY: The CHIPS Program Office will host a public webinar in connection with the Notice of Proposed Rulemaking for national security guardrails included in the CHIPS for America Incentives Program. In this webinar, the CHIPS Program Office will review the national security measures included in the CHIPS and Science Act and the additional details and definitions outlined in the Notice of Proposed Rulemaking. The webinar will also cover how the public can submit comments on the Notice of Proposed Rulemaking.

DATES: The CHIPS Program Office at NIST will hold the webinar on Thursday, March 30, 2023 at 5-5:30 p.m. Eastern Time (ET).

ADDRESSES: This webinar will be hosted via NIST's virtual platform and will be conducted as a live webinar. Registration is required; the registration information is posted online at https://www.nist.gov/chips/chips-america-webinars.

FOR FURTHER INFORMATION CONTACT: Jessica Stoneman; CHIPS Program Office, National Institute of Standards and Technology (NIST), U.S. Department of Commerce, 1401 Constitution Avenue NW, Washington, DC 20230; phone: 202-603-4801; email: askchips@chips.gov.

SUPPLEMENTARY INFORMATION: CHIPS for America is part of President Biden's economic plan to invest in America, stimulate private sector investment, create good-paying jobs, make more in the United States, and revitalize communities left behind. CHIPS for America includes the CHIPS Program Office, responsible for manufacturing incentives, and the CHIPS Research and Development Office, responsible for R&D programs, that both sit within the National Institute of Standards and Technology (NIST) at the Department of Commerce. NIST promotes U.S. innovation and industrial competitiveness by advancing measurement science, standards, and technology in ways that enhance economic security and improve our quality of life. NIST is uniquely positioned to successfully administer the CHIPS for America program because of the bureau's strong relationships with U.S. industries, its deep understanding of the semiconductor ecosystem, and its reputation as fair and trusted. Visit https://www.chips.gov to learn more.

The date and time of this webinar is subject to change. Session time changes will be posted on the CHIPS for America website at https://www.nist.gov/chips/chips-america-webinars. Any webinar cancellations will also be posted on the same website.

The presentation recording and transcript of each webinar will be posted on the CHIPS for America website at https://www.nist.gov/chips/chips-america-webinars.

The public is invited to participate in these webinars. Prior registration is required. Please see ADDRESSES section above for information on how to register.

Authority: 15 U.S.C. 4651 et seq.

Alicia Chambers,
NIST Executive Secretariat.

[FR Doc. 2023-06297 Filed 3-24-23; 8:45 am]

BILLING CODE 3510-13-P